DEPARTMENT OF COMMERCE

National Oceanic and Atmospheric Administration

RIN 0648-XA654

Fisheries of the Gulf of Mexico and South Atlantic; Southeast Data, Assessment, and Review (SEDAR); Review Workshop for Gulf of Mexico Menhaden and Gulf of Mexico and South Atlantic Yellowtail Snapper

AGENCY: National Marine Fisheries Service (NMFS), National Oceanic and Atmospheric Administration (NOAA), Commerce.

ACTION: Notice of SEDAR 27 Review Workshop for Gulf of Mexico menhaden and Gulf of Mexico and South Atlantic yellowtail snapper.

SUMMARY: The technical stock assessments of the Gulf of Mexico stock of menhaden and the southeast U.S. stocks of yellowtail snapper will be reviewed during the Review Workshop. See SUPPLEMENTARY INFORMATION.

DATES: The Review Workshop will take place November 1-4, 2011. See SUPPLEMENTARY INFORMATION for specific dates and times.

ADDRESSES: The Review Workshop will be held at Florida Wildlife Research Institute, 100 8th Avenue SE., St. Petersburg, FL 33701.

FOR FURTHER INFORMATION CONTACT: Julie Neer, SEDAR Coordinator, 4055 Faber Place Drive, Suite 201, North Charleston, SC 29405; (843) 571-4366; e-mail: Julie.neer@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three-step process including: (1) Data Workshop, (2) Assessment Process utilizing webinars and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary report documenting Panel opinions regarding the strengths and weaknesses of the stock assessment and input data. Participants for SEDAR Workshops are usually appointed by the Gulf of Mexico, South Atlantic, and Caribbean Fishery Management Councils, Fisheries Commissions, and NOAA Fisheries Southeast Regional Office and Southeast Fisheries Science Center. Participants include data collectors and database managers; stock assessment scientists, biologists, and researchers; constituency representatives including fishermen, environmentalists, and NGO's; International experts; and staff of Councils, Commissions, and state and federal agencies. Additionally, SEDAR Cooperators may request a SEDAR Review of an assessment produced outside of the standard SEDAR workshop process.

SEDAR 27 Review Workshop Schedule

November 1-4, 2011; SEDAR 27 Review Workshop,

November 1, 2011: 9 a.m.-8 p.m.; November 2-3, 2011: 8 a.m.-8 p.m.; November 4, 2011: 8 a.m.-12 p.m.

The established times may be adjusted as necessary to accommodate the timely completion of discussion relevant to the assessment process. Such adjustments may result in the meeting being extended from, or completed prior to the time established by this notice.

The Review Workshop is an independent peer review of the assessment developed during the assessment process, which may include Data and Assessment Workshops. Workshop Panelists will review the assessment and document their comments and recommendations in a Consensus Summary.

Special Accommodations

These meetings are physically accessible to people with disabilities. Requests for sign language interpretation or other auxiliary aids should be directed to the Council office (see ADDRESSES) at least 10 business days prior to each workshop.

Dated: August 18, 2011.
Tracey L. Thompson,
Acting Director, Office of Sustainable Fisheries, National Marine Fisheries Service.

[FR Doc. 2011-21542 Filed 8-22-11; 8:45 am]

BILLING CODE 3510-22-P